ENVIRONMENTAL PROTECTION AGENCY

[OPP-66279; FRL-6740-6]

Notice of Receipt of Requests to Voluntarily Cancel Certain Pesticide Registrations

AGENCY: Environmental Protection Agency (EPA).

ACTION: Notice.

SUMMARY: In accordance with section 6(f)(1) of the Federal Insecticide, Fungicide and Rodenticide Act (FIFRA), as amended, EPA is issuing a notice of receipt of requests by registrants to voluntarily cancel certain pesticide registrations.

DATES: Unless a request is withdrawn by, March 5, 2001, unless indicated otherwise, orders will be issued canceling all of these registrations.

FOR FURTHER INFORMATION CONTACT: By mail: James A. Hollins, Office of Pesticide Programs (7502C), Environmental Protection Agency, 1200 Pennsylvania Avenue, N.W., Washington, DC 20460. Office location for commercial courier delivery, telephone number and e-mail: Rm. 224, Crystal Mall No. 2, 1921 Jefferson Davis Highway, Arlington, VA 22202, (703) 305-5761; e-mail: hollins.james@epa.gov.

SUPPLEMENTARY INFORMATION:

I. General Information

A. Does this apply to me?

This action is directed to the public in general. Although this action may be of particular interest to persons who produce or use pesticides, the Agency has not attempted to describe all the specific entities that may be affected by this action. If you have any questions regarding the information in this notice, consult the person listed under FOR FURTHER INFORMATION CONTACT.

B. How can I get additional information or copies of support documents?

1. Electronically. You may obtain electronic copies of this document and certain other related documents that might be available electronically, from the EPA Internet Home Page at http://www.epa.gov. To access this document, on the Home Page select “Laws and Regulations,” “Regulations and Proposed Rules,” and then look up the entry for this document under the “Federal Register—Environmental Documents.” You can also go directly to the Federal Register listing at http://www.epa.gov/fedrgstr/.

2. In person. Contact James A. Hollins at 1921 Jefferson Davis Highway, Crystal Mall 2, Rm. 224, Arlington, VA, telephone number (703) 305-5761. Available from 7:30 a.m. to 4:45 p.m., Monday thru Friday, excluding legal holidays.

II. What Action is the Agency Taking?

This notice announces receipt by the Agency of applications from registrants to cancel some 38 pesticide products registered under section 3 or 24 of FIFRA. These registrations are listed in sequence by registration number (or company number and 24 number) in the following Table 1.

Table 1. — Registrations with Pending Requests for Cancellation
Registration No. | Product Name | Chemical Name
000016-00155 | Dragon Methoxychlor Insect Spray | Methoxychlor (2,2-bis(p-methoxyphenyl)-1,1,1-trichloroethane)
000052-00080 | Wescodyne General Purpose Detergent Germicide | Nonylphenoxypolyethoxyethanol-iodine complex
|  | Polyethoxypolypropoxyethanol-iodine complex
000192-00187 | Dexol No-Show Weed and Grass Preventer | S-Ethyl dipropylthiocarbamate
000264 OR-84-0010 | Mocap Nematacide-Insecticide 10%% Granular | O-Ethyl S,S-dipropyl phosphorodithioate
000400-00423 | Terrazole 4 Flowable Fungicide | 5-Ethoxy-3-(trichloromethyl)-1,2,4-thiadiazole
000400-00455 | Terraclor Super X Flowable | Pentachloronitrobenzene
|  | 5-Ethoxy-3-(trichloromethyl)-1,2,4-thiadiazole
000400 WA-76-0037 | Vitavax Flowable Fungicide | 5,6-Dihydro-2-methyl-1,4-oxathiin-3-carboxanalide
000400 WA-76-0038 | Vitavax-200 Flowable Fungicide | Tetramethyl thiuramdisulfide
|  | 5,6-Dihydro-2-methyl-1,4-oxathiin-3-carboxanalide
000769-00872 | Pratt Stops-Weeds Twenty-Three | S-Ethyl dipropylthiocarbamate
002724-00450 | Zoecon 9001 EW | 2-Butenoic acid, 3-(((ethylamino)methoxyphosphinothioyl)oxy)-, 1-methylethyl
003125 MS-00-0004 | Baythroid 2 Emulsifiable Pyrethroid Insecticide | Cyano(4-fluoro-3-phenoxyphenyl)methyl 3-(2,2-dichloroethenyl)-2,2-
003125 MS-84-0012 | Guthion 2 L | O,O-Dimethyl S-((4-oxo-1,2,3-benzotriazin-3(4H)-yl)methyl) phosphorodithioate
004822-00205 | Formula 6099 #1 Insect Repellent | N,N-Diethyl-meta-toluamide and other isomers
004822-00207 | Formula 6099 #3 Insect Repellent | N,N-Diethyl-meta-toluamide and other isomers
004822-00254 | Formula 6099 #11 Insect Repellent | N,N-Diethyl-meta-toluamide and other isomers
005887-00176 | Lawn and Garden Fungicide | Tetrachloroisophthalonitrile
007401-00330 | Hi-Yield Disease Control for Flower and Vegetable Gardens | Tetrachloroisophthalonitrile
007401-00331 | Ferti-Lome Disease Control for Flower and Vegetable Gardens | Tetrachloroisophthalonitrile
007401-00339 | Ferti-Lome Liquid Lawn Disease Control | Tetrachloroisophthalonitrile
007401-00340 | Ferti-Loam Vegetation Disease Control | Tetrachloroisophthalonitrile
007501-00027 | Gustafson Captan 400-D | cis-N-Trichloromethylthio-4-cyclohexene-1,2-dicarboximide
007969 OR-90-0011 | Banvel SGF Herbicide | Sodium 3,6-dichloro-o-anisate
007969 OR-90-0013 | Banvel Herbicide | Dimethylamine 3,6-dichloro-o-anisate
010182 AZ-91-0008 | Stauffer Eptam 7-E Granules | S-Ethyl dipropylthiocarbamate
|  | S-Ethyl dipropylthiocarbamate
|  | S-Ethyl dipropylthiocarbamate
010807-00079 | Misty Residual Contact Spray | 2-Methyl-4-oxo-3-(2-propenyl)-2-cyclopenten-1-yl d-trans-2,2-dimethyl-
|  | N-Octyl bicycloheptene dicarboximide
|  | O,O-Diethyl O-(3,5,6-trichloro-2-pyridyl) phosphorothioate
010807-00080 | Misty Aqueous Residual Spray | O,O-Diethyl O-(3,5,6-trichloro-2-pyridyl) phosphorothioate
|  | (Butylcarbityl)(6-propylpiperonyl) ether 80% and related compounds 20%
|  | Pyrethrins
010807-00082 | Misty Control | 2-Methyl-4-oxo-3-(2-propenyl)-2-cyclopenten-1-yl d-trans-2,2-dimethyl-
|  | N-Octyl bicycloheptene dicarboximide
|  | O,O-Diethyl O-(3,5,6-trichloro-2-pyridyl) phosphorothioate
|  | (Butylcarbityl)(6-propylpiperonyl) ether 80% and related compounds 20%
010807-00118 | Misty Jet Stream Residual Insecticide with Dursban | O,O-Diethyl O-(3,5,6-trichloro-2-pyridyl) phosphorothioate
|  | (5-Benzyl-3-furyl)methyl 2,2-dimethyl-3-(2-methylpropenyl)cyclopropanecarboxylate
010807-00119 | Misty Resmethrin/Dursban Transparent Emulsion Concentra | O,O-Diethyl O-(3,5,6-trichloro-2-pyridyl) phosphorothioate
|  | (5-Benzyl-3-furyl)methyl 2,2-dimethyl-3-(2-methylpropenyl)cyclopropanecarboxylate
010807-00126 | Misty Crack and Crevice Residual Spray with Dursban | O,O-Diethyl O-(3,5,6-trichloro-2-pyridyl) phosphorothioate
|  | (Butylcarbityl)(6-propylpiperonyl) ether 80% and related compounds 20%
|  | Pyrethrins
010807-00181 | Misty 5015 | 2-Methyl-4-oxo-3-(2-propenyl)-2-cyclopenten-1-yl d-trans-2,2-dimethyl-
|  | N-Octyl bicycloheptene dicarboximide
|  | O,O-Diethyl O-(3,5,6-trichloro-2-pyridyl) phosphorothioate
019713-00206 | Chapman Weed-Free 58 CBB - 2.5P | Boron sodium oxide (B4Na2O7), pentahydrate
|  | 5-Bromo-3-sec-butyl-6-methyluracil
|  | Sodium chlorate
028293-00273 | Unicorn Propoxur Commercial Insect Spray | o-Isopropoxyphenyl methylcarbamate
028293-00274 | Unicorn Propoxur 0.5% Aqueous Insecticide | o-Isopropoxyphenyl methylcarbamate
037855 NV-80-0010 | Niagara Methoxychlor 2 EC Code 2002 | Methoxychlor (2,2-bis(p-methoxyphenyl)-1,1,1-trichloroethane)
055146-00070 | Gibgro 4l | Gibberellic acid
062876-00001 | Crypt-Tox | Methoxychlor (2,2-bis(p-methoxyphenyl)-1,1,1-trichloroethane)
067751 OR-95-0036 | Selected Herbicide | 2-Cyclohexen-1-one, 2-(1-(((3-chloro-2-propenyl)oxy)imino)propyl)

Note: There is a 30-day comment period for EPA Registration Numbers 00052-00080 and 055146-00070.

Unless a request is withdrawn by the registrant within 180 days (30 days when requested by registrant) of publication of this notice, orders will be issued canceling all of these registrations. Users of these pesticides or anyone else desiring the retention of a registration should contact the applicable registrant during this comment period.

The following Table 2 includes the names and addresses of record for all registrants of the products in Table 1, in sequence by EPA company number.

Table 2. — Registrants Requesting Voluntary Cancellation
EPA Company No. | Company Name and Address
000016 | Dragon Chemical Corp., 7033 Walrond Drive NW, Box 7311, Roanoke, VA 24019.
000052 | W. Chemical Products, Inc., W. Penetone Corp., 74 Hudson Ave., Tenafly, NJ 07670.
000192 | Dexol, A Division of Verbdant Brands, Inc., Agent For: Dexol, 213 S.W. Columbia St., Bend, OR 97702.
000264 | Aventis Cropscience USA LP, 2 T.W. Alexander Drive, Research Triangle Park, NC 27709.
000400 | Uniroyal Chemical Co Inc., 74 Amity Rd, Bethany, CT 06524.
000769 | Verdant Brands, Inc., Agent For: Verdant Brands, Inc., 213 S.W. Columbia St., Bend, OR 97702.
002724 | Wellmark International, 1000 Tower Lane, Suite 245, Bensenville, IL 60106.
003125 | Bayer Corp., Agriculture Division, 8400 Hawthorn Rd, Box 4913, Kansas City, MO 64120.
004822 | S.C. Johnson & Son Inc., 1525 Howe Street, Racine, WI 53403.
005887 | Verdant Brands, Inc., Agent For: Verdant Brands, Inc., 213 S.W. Columbia St., Bend, OR 97702.
007401 | Brazos Associates, Inc., Agent For: Voluntary Purchasing Group Inc, c/o Voluntary Purchasing Groups, Inc., Box 460, Bonham, TX 75418.
007501 | Gustafson LLC, 1400 Preston Rd., Suite 400, Planos, TX 75093.
007969 | BASF Corp., Agricultural Products, Box 13528, Research Triangle Park, NC 27709.
010182 | Zeneca Ag Products, Inc., 1800 Concord Pike, Wilmington, DE 19850.
010807 | Amrep, Inc., 990 Industrial Dr, Marietta, GA 30062.
019713 | Drexel Chemical Co, 1700 Channel Ave.Box 13327, Memphis, TN 38113.
028293 | Unicorn Laboratories, 12385 Automobile Blvd., Clearwater, FL 33762.
037855 | Nevada Division of Agriculture, SLA 350 Capitol Hill Ave, Reno, NV 89502.
055146 | Agtrol International, 7322 Southwest Freeway, Suite 1400, Houston, TX 77074.
062876 | William Q. Arrison, Agent For: Pepcis Corp., 135 Old River Rd., Milford, NJ 08848.
067751 | OMG Meadowfoam Oil Seed Growers, Box 4306, Salem, OR 97302.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for cancellation must submit such withdrawal in writing to James A. Hollins, at the address given above, postmarked before March 5, 2001, unless indicated otherwise. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received by the Agency. This policy is in accordance with the Agency's statement of policy as prescribed in Federal Register (56 FR 29362) June 26, 1991; [FRL 3846-4]. Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Pesticides and pests, Product registrations.

Dated: August 24, 2000.
Richard D. Schmitt,
Associate Director, Information Resources and Services Division, Office of Pesticide Programs.

[FR Doc. 00-22817 Filed 9-5-00; 8:45 am]

BILLING CODE 6560-50-S